DEPARTMENT OF TRANSPORTATION

Federal Highway Administration

Notice of Final Federal Agency Actions of Proposed Highway/Interchange Improvement in California; Statute of Limitations on Claims

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans, that are final. The actions relate to the proposed highway project, Alameda Creek Bridge Replacement Project on State Route 84 (SR-84) between the City of Fremont and the town of Sunol in southern Alameda County, State of California. Those actions grant licenses, permits, and approvals for the project.

DATES: By this notice, the FHWA, on behalf of Caltrans, is advising the public of final agency actions subject to 23 U.S.C. 139(l)(1). A claim seeking judicial review of the Federal Agency Actions on the highway project will be barred unless the claim is filed on or before April 13, 2018. If the Federal law that authorizes judicial review of a claim provides a time period of less than 150 days for filing such claim, then that shorter time period still applies.

FOR FURTHER INFORMATION CONTACT: For Caltrans: Brian Gassner, Environmental Branch Chief, Office of Environmental Analysis, California Department of Transportation—District 4, 111 Grand Avenue, Oakland, California, 8 a.m. to 5 p.m., (510) 286-6025, brian.gassner@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans, has taken final agency actions subject to 23 U.S.C. 139(l)(1) by issuing licenses, permits, and approvals for the following highway project in the State of California. Caltrans proposes to replace the Alameda Creek Bridge and realign the bridge approaches on SR-84 from postmile 13.0 to 13.6. The project would replace the existing 1928, two-lane bridge with a new, two-lane structure with standard eight-foot wide shoulders, approximately 75 feet north of the existing bridge. The purpose of this project is to correct structural and geometric deficiencies of the Alameda Creek Bridge and its approaches while providing a facility that meets driver expectations of SR-84's operating speed, all of which improve safety. The actions by the Federal agencies, and the laws under which such actions were taken, are described in the Final Environmental Impact Report (EIR)/Environmental Assessment (EA) for the project, approved on September 25, 2017, and in the Caltrans Finding of No Significant Impact (FONSI) issued on August 16, 2017, and in other documents in the Caltrans project records. The Final EIR/EA, FONSI, and other project records are available by contacting Caltrans at the address provided above. The Caltrans Final EIR/EA and FONSI can be viewed and downloaded from the project Web site at http://www.dot.ca.gov/d4/envdocs.htm. This notice applies to all Federal agency decisions as of the issuance date of this notice and all laws under which such actions were taken, including but not limited to:

(1) Council on Environmental Quality regulations;

(2) National Environmental Policy Act (NEPA);

(3) Moving Ahead for Progress in the 21st Century Act (MAP-21);

(4) Department of Transportation Act of 1966;

(5) Federal Aid Highway Act of 1970;

(6) Clean Air Act Amendments of 1990;

(7) Noise Control Act of 1970;

(8) 23 CFR part 772 FHWA Noise Standards, Policies and Procedures;

(9) Department of Transportation Act of 1966, Section 4(f);

(10) Clean Water Act of 1977 and 1987;

(11) Endangered Species Act of 1973;

(12) Migratory Bird Treaty Act;

(13) National Historic Preservation Act of 1966, as amended;

(14) Historic Sites Act of 1935;

(15) Executive Order 13112, Invasive Species;

(16) Executive Order 11990—Protection of Wetlands; and

(17) Title VI of the Civil Rights Act of 1964, as amended.

(Catalog of Federal Domestic Assistance Program Number 20.205, Highway Planning and Construction. The regulations implementing Executive Order 12372 regarding intergovernmental consultation on Federal Programs and activities apply to this program.)

Authority: 23 U.S.C. 139(l)(1).

Tashia J. Clemons,
Director of Program Development Federal Highway Administration, Sacramento, CA.

[FR Doc. 2017-24625 Filed 11-13-17; 8:45 am]

BILLING CODE 4910-RY-P